DEPARTMENT OF STATE

[Public Notice 12878]

60-Day Notice of Proposed Information Collection: Medical History and Examination

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to February 17, 2026.

ADDRESSES:

You may submit comments by any of the following methods:

• Web: Persons with access to the internet may comment on this notice by going to www.Regulations.gov. You can search for the document by entering “Docket Number: DOS-2025-0434” in the Search field. Then click the “Comment Now” button and complete the comment form.

• Email: MartinezJA7@state.gov.

• Regular Mail: Send written comments to: Medical Director, Office of Medical Clearances, Bureau of Medical Services, 2401 E Street NW, SA-1, Room L-101, Washington, DC 20522-0101

• Fax: 202-647-0292, Attention: Medical Clearance Director

You must include the DS form number (if applicable), information collection title, and the OMB control number in any correspondence.

FOR FURTHER INFORMATION CONTACT: Direct requests for additional information regarding the collection listed in this notice, including requests for copies of the proposed collection instrument and supporting documents, to Jessica Martinez, Director of Medical Clearances, who may be reached on (202) 663-1657 or at MartinezJA7@state.gov.

SUPPLEMENTARY INFORMATION:

• Title of Information Collection: Medical and History Examination.

• OMB Control Number: 1405-0068.

• Type of Request: Revision of a Currently Approved Collection.

• Originating Office: Bureau of Medical Services, Office of Medical Clearances (MED/CP/CS/CL).

• Form Number: DS-1843 and DS-1622.

• Respondents: Chief of Mission personnel and eligible family members.

• Estimated Number of Respondents: 2,039.

• Estimated Number of Responses: 2,039.

• Average Time Per Response: 1 hour.

• Total Estimated Burden Time: 2,030 hours.

• Frequency: Upon application/employment for an overseas position and then intermittent, as needed.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Forms DS-1843 and DS-1622 collect medical history, screenings and physical examinations for all individuals applying for overseas positions, including their eligible family members. Forms DS-1843 and DS-1622 are designed to collect sufficient and current medical information on the individual for a medical provider to make a medical clearance determination for initial appointment to an overseas assignment. They are also used to determine whether the individual or eligible family member will have appropriate medical and/or educational resources at a diplomatic mission/host country abroad to maintain the health and safety of the individual or family member. The forms were updated to include questions regarding employment agency information for non-foreign service agencies.

Methodology

The respondent will initially answer the questions on pages 1-3 of the forms digitally. They will then be prompted to download the auto populated form with their responses and take it to their personal medical provider for completion and authorization of pages 4-5. Once complete, the forms will be submitted via a secure online platform for review by the Office of Medical Clearances.

Jessica A. Martinez,
Director of Medical Clearances, Bureau of Medical Services, Department of State.

[FR Doc. 2025-23131 Filed 12-16-25; 8:45 am]

BILLING CODE P